DEPARTMENT OF AGRICULTURE

Natural Resources Conservation Service

Task Force on Agricultural Air Quality

AGENCY: Natural Resources Conservation Service, USDA.

ACTION: Notice of meeting.

SUMMARY: The Task Force on Agricultural Air Quality will meet to continue discussions on critical air quality issues relating to agriculture. Special emphasis will be placed on obtaining a greater understanding about the relationship between agricultural production and air quality. The meeting is open to the public.

DATES: The meeting will convene Wednesday, July 17, 2002, at 9 a.m., and continue until 4 p.m. The meeting will resume Thursday, July 18, 2002, from 9 a.m. to 4 p.m. Written material and requests to make oral presentations should reach the Natural Resources Conservation Service, at the address below, on or before July 3, 2002.

ADDRESSES: On both days, July 17-18, the meeting will be held at the Radisson Quad City Plaza at 111 East Second Street, Davenport, Iowa 52801; telephone: (563) 322-2200. Written material and requests to make oral presentations should be sent to Beth Sauerhaft, USDA-NRCS, Post Office Box 2890, Room 6158, Washington, DC 20013.

FOR FURTHER INFORMATION CONTACT: Questions or comments should be directed to Beth Sauerhaft, Designated Federal Official; telephone: (202) 720-8578; fax: (202) 720-2646; e-mail: Beth.Sauerhaft@usda.gov.

SUPPLEMENTARY INFORMATION: Notice of this meeting is given under the Federal Advisory Committee Act, 5 U.S.C. App. 2. Additional information about the Task Force on Agricultural Air Quality, including any revised agendas for the July 17 and 18, 2002, meeting that occur after this Federal Register Notice is published, may be found on the World Wide Web at http:\\www.nhq.nrcs.usda.gov/faca/aaqtf.html.

Draft Agenda of the July 17 and 18, 2002, Meeting

A. Welcome to the Quad Cities

1. Local Officials

B. Approve Minutes of the Washington, DC, May 1-2, 2002, AAQTF Meeting

C. EPA Update

• EPA Official

• National Academy of Sciences Scientific Assessment update

• RPO Update—potential impacts to agriculture

• Title V Update

D. Subcommittee Business

• Research Priorities and Oversight Subcommittee

• Emissions Factors Subcommittee

• Concentrated Animal Feeding Operation Subcommittee

• Voluntary/Incentive Based Program Subcommittee

• Follow-up Subcommittee

• Agricultural Burning Subcommittee

• Title V Subcommittee

• Monitoring Subcommittee

• Implementation Subcommittee

E. New Topics

• Iowa CAFO Study

• Engine Emissions

F. Discussion of Final Report

G. Public Input

(Time will be reserved before lunch and at the close of each daily session to receive public comment. Individual presentations will be limited to 5 minutes).

Procedural

This meeting is open to the public. At the discretion of the Chair, members of the public may give oral presentations during the meeting. Persons wishing to make oral presentations should notify Beth Sauerhaft no later than July 3, 2002. If a person submitting material would like a copy distributed to each member of the committee in advance of the meeting, that person should submit 25 copies to Beth Sauerhaft no later than July 3, 2002.

Information on Services for Individuals With Disabilities

For information on facilities or services for individuals with disabilities or to request special assistance at the meeting, contact Beth Sauerhaft.

USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (braille, large print, audio tape, etc.) should contact the USDA's Target Center at (202) 720-2000 (voice and TDD). The USDA is an equal opportunity provider and employer.

Signed in Washington, D.C., on June 27, 2002.
P. Dwight Holman,
Deputy Chief for Management, Natural Resources Conservation Service.

[FR Doc. 02-16634 Filed 7-1-02; 8:45 am]

BILLING CODE 3410-16-P